DEPARTMENT OF ENERGY

Federal Energy Regulatory Commission

[Docket No. CP14-492-000]

Equitrans, L.P.; Notice of Request Under Blanket Authorization

Take notice that on May 23, 2014, Equitrans, L.P. (Equitrans), 625 Liberty Avenue, Suite 1700, Pittsburgh, Pennsylvania 15222, filed in the above Docket, a prior notice request pursuant to sections 157.205, 157.208 and 157.210 of the Commission's regulations under the Natural Gas Act (NGA) for authorization to uprate approximately 74 miles of existing pipeline in West Virginia and Pennsylvania, and to install additional compression at the existing Blacksville Compressor Station to add approximately 100 million cubic feet per day (MMcf/d) of new capacity on its Mainline System under authorization issued to Equitrans in Docket No. CP96-532-000, all as more fully set forth in the application which is on file with the Commission and open to public inspection. The filing may also be viewed on the web at http://www.ferc.gov using the “eLibrary” link. Enter the docket number excluding the last three digits in the docket number field to access the document. For assistance, please contact FERC Online Support at FERCOnlineSupport@ferc.gov or toll free at (866) 208-3676, or TTY, contact (202) 502-8659.

Any questions concerning this application may be directed to Paul W. Diehl, Senior Counsel, Midstream EQT Corporation, 625 Liberty Avenue, Suite 1700, Pittsburgh, PA 15222, at (412) 395-5540.

Specifically, Equitrans proposes to increase the maximum allowable operating pressure (MAOP) of several of its pipeline segments, from 605 psig to 655 psig and add 9,470 horsepower of compression at its Blacksville Compressor Station in Monongalia County, West Virginia. The estimated cost of the project is $26,579,260.

Pursuant to section 157.9 of the Commission's rules, 18 CFR 157.9, within 90 days of this Notice the Commission staff will either: Complete its environmental assessment (EA) and place it into the Commission's public record (eLibrary) for this proceeding; or issue a Notice of Schedule for Environmental Review. If a Notice of Schedule for Environmental Review is issued, it will indicate, among other milestones, the anticipated date for the Commission staff's issuance of the final environmental impact statement (FEIS) or EA for this proposal. The filing of the EA in the Commission's public record for this proceeding or the issuance of a Notice of Schedule for Environmental Review will serve to notify federal and state agencies of the timing for the completion of all necessary reviews, and the subsequent need to complete all federal authorizations within 90 days of the date of issuance of the Commission staff's FEIS or EA.

Any person may, within 60 days after the issuance of the instant notice by the Commission, file pursuant to Rule 214 of the Commission's Procedural Rules (18 CFR 385.214) a motion to intervene or notice of intervention. Any person filing to intervene or the Commission's staff may, pursuant to section 157.205 of the Commission's Regulations under the Natural Gas Act (NGA) (18 CFR 157.205) file a protest to the request. If no protest is filed within the time allowed therefore, the proposed activity shall be deemed to be authorized effective the day after the time allowed for protest. If a protest is filed and not withdrawn within 30 days after the time allowed for filing a protest, the instant request shall be treated as an application for authorization pursuant to section 7 of the NGA.

The Commission strongly encourages electronic filings of comments, protests, and interventions via the internet in lieu of paper. See 18 CFR 385.2001(a)(1)(iii) and the instructions on the Commission's Web site (www.ferc.gov) under the “e-Filing” link.

Dated: May 30, 2014.
Kimberly D. Bose,
Secretary.

[FR Doc. 2014-13349 Filed 6-6-14; 8:45 am]

BILLING CODE 6717-01-P